DEPARTMENT OF LABOR

Employment and Training Administration

Workforce Investment Act: Migrant and Seasonal Farmworker Programs Under Section 167

AGENCY: Employment and Training Administration, Labor.

ACTION: Notice of proposed data collection.

SUMMARY: The Department of Labor, as part of its continuing effort to reduce paperwork and respondent burden, conducts a preclearance consultation process to provide the general public and Federal agencies with an opportunity to comment on proposed and/or continuing collections of information in accordance with the Paperwork Reduction Act of 1995 (PRA95) (44 U.S.C. 3506(c)(2)(A)). This process helps to ensure that requested data can be provided in the desired format, reporting burdens are minimized, collection instruments are clearly understood, and the impact of collection requirements on respondents can be properly assessed. Currently, the Employment and Training Administration (ETA), in consultation with the Migrant and Seasonal Farmworker Employment and Training Advisory Committee, is soliciting comments concerning the proposed institution of a “reporting and performance standards system for National Farmworker Jobs Programs under title I, section 167 of the Workforce Investment Act (WIA)”. A copy of the proposed information collection request (ICR) can be obtained by contacting the office listed below in the address section of this notice.

DATES: Written comments must be submitted to the office listed in the addressee section below on or before December 4, 2000.

ADDRESSES: Alicia Fernandez-Mott, Chief, Division of Seasonal Farmworker Programs, Employment and Training Administration, U.S. Department of Labor, Room N-4641, 200 Constitution Avenue, NW., Washington, DC 20210. Telephone: (202) 219-8502 ext 121 (VOICE) or (202) 219-6338 (FAX) (these are not toll-free numbers) or INTERNET: afernandezmott@doleta.gov.

FOR FURTHER INFORMATION CONTACT: Copies of the information collection request are available for inspection in the Division of Seasonal Farmworker Programs at the above address, and will be mailed to persons who request copies in writing from Alicia Fernandez-Mott at the above address.

SUPPLEMENTARY INFORMATION:

I. Background

The Employment and Training Administration of the Department of Labor, in consultation with the Migrant and Seasonal Farmworker Employment and Training Advisory Committee, is requesting approval of a new reporting and performance standards system for Workforce Investment Act (WIA) title I, section 167, National Farmworker Jobs Program grantees for three program years (July 1, 2000 to June 30, 2003). In evaluating the last several years' reporting experience of the grantees who received funding under JTPA section 402, and in light of the statutory requirements of WIA applicable to section 167 grantees, the Department has developed the following recommended planning and reporting requirements which it believes supports the statutory requirements under WIA as they relate to the National Farmworker Jobs Program.

II. Desired Focus of Comments

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Action

This proposed ICR will be used by approximately 53 Workforce Investment Act (WIA) section 167 grantees as the primary reporting and performance measurement vehicle for enrolled individuals, their characteristics, training and services provided, outcomes, including job placement and employability enhancements, as well as detailed financial data on program expenditures.

Type of Review: New.

Agency: Employment and Training Administration.

Title: Planning, reporting, and performance system for WIA title I, section 167, National Farmworker Jobs Program grantees.

OMB Number: 1205-0NEW.

Catalog of Federal Domestic Assistance Number: 17.255 (this would replace similar Migrant and Seasonal Farmworker employment and training activities conducted under section 402 of the Job Training Partnership Act).

Record Keeping: Grantees shall retain supporting and other documents necessary for the compilation and submission of the subject reports for three years after submission of the final financial report for the grant in question [29 CFR 97.42 and/or 29 CFR 95.53]

Affected Public: State agencies; private, non-profit corporations; and consortia of any of the above.

Cite/Reference/Form/etc.: The collection instrument is the National Farmworker Jobs Program Planning, Reporting, and Performance System and related instructions. OMB-approved forms will be provided for use in gathering information at the grantee field office level.

Total Respondents: 53.

Frequency: Annually for planning information; quarterly for both financial information and participation and characteristics information.

Total Annual Responses: 42,833.

Planning—53 (53 times 1).

Reporting—424 (53 times 4, times 2).

Recordkeeping (NFJP SPIR)—42,250 records.

There are four statutorily-required quarterly financial status reports per grantee per year, by year of appropriation. For participation and characteristics information, there are four quarterly submissions per year, regardless of the year(s) of funding expended during the program year. There is only one format for the participation and characteristics report.

Average Time per Response:

Annual Service Plan (Narrative)—20 hours.

Budget Information Summary (BIS)—15 hours; (ETA).

Program Planning Summary (PPS)—16 hours; (ETA).

Financial Status Report (FSR)—7 hours; (ETA).

Program Status Summary (PSS)—7 hours; (ETA).

Recordkeeping (SPIR)—3 hours (per participant record) The individual time per response varies widely depending on the degree of automation attained by individual grantees. Grantees also vary according to the numbers of individuals served in each program year. If the grantee has a fully-developed and automated MIS, the response time is limited to one-time programming plus processing time for each response. It is the Department's desire to see as many WIA section 167 grantees as possible become computerized, so that response time for reporting will eventually sift down to an irreducible minimum with an absolute minimum of human intervention.

Estimated Total Burden Hours:

132,601 (NFJP—minimum)—42,833 total responses.

Planning Narrative (NFJP)—53 responses times 20 hours per response equals 1,060 burden hours.

BIS (NFJP)—53 responses times 15 hours per response equals 795 burden hours.

PPS (NFJP)—53 responses times 16 hours per response equals 848 burden hours.

FSR (NFJP)—212 (53 X 4) responses times 7 hours per response equals 1,484 burden hours.

PSS (NFJP)—212 (53 X 4) responses times 7 hours per response equals 1,484 burden hours.

Participant Records—42,250 response (SPIR records) times 3 hours per response equals 126,750 burden hours.

The use of the term “minimum” refers to the fact that an individual grantee must continue to report on expenditures by year of appropriation until those funds are completely expended, or “zeroed out”. Thus, if more that one year's appropriation is expended in a given quarter, two (or more) FSRs must be submitted for that period, corresponding to the fund source(s) utilized.

Total Burden Cost (capital/startup): $-0-.

Total Burden Cost (operating/maintaining): $1,989,015. (132,601 total hours per annual response cycle times an estimated average wage of $15.00 per grantee staff hour). As noted, these costs will vary widely among grantees, from nearly no additional cost to some higher figure, depending on the state of automation attained by each grantee and the wages paid to the staff actually completing the various forms. All costs associated with the submission of these forms are allowable grant expenses.

Comments submitted in response to this comment request will be summarized and/or included in the request for Office of Management and Budget approval of the information collection request; they also will become a matter of public record.

Signed at Washington, DC, this 27th day of September, 2000.
James C. DeLuca,
Acting Director, Office of National Programs.

[FR Doc. 00-25353 Filed 10-2-00; 8:45 am]

BILLING CODE 4510-30-U